DEPARTMENT OF ENERGY

Federal Energy Regulatory Commission

[Docket No. RM06-16-000]

Mandatory Reliability Standards for the Bulk-Power System; Notice of Technical Conference

May 31, 2006.

On May 11, 2006, the Commission released a Staff Assessment of the North American Electric Reliability Council's (NERC) current reliability standards. The Staff Assessment is a preliminary evaluation intended to assist in developing the public record in anticipation of Commission action on NERC's April 4, 2006 petition for approval of reliability standards.

Take notice that the Federal Energy Regulatory Commission will hold a Technical Conference to consider NERC's April 4, 2006 petition and to address issues raised in the Staff Assessment. This Technical Conference will be held on July 6, 2006, in the offices of the Commission, 888 First Street, NE., Washington, DC, from approximately 9 a.m. until approximately 4 p.m. (EST). This conference will be held in the Commission Meeting Room on the second floor of the Commission. All interested persons may attend, and registration is not required. This will be a staff conference, but Commissioners may attend.

Transcripts of the conference will be immediately available from Ace Reporting Company (202-347-3700 or 1-800-336-6646) for a fee. They will be available for the public on the Commission's eLibrary system and the calendar posting for this event seven calendar days after the Commission receives the transcript.

A free webcast of this event is available through http://www.ferc.gov. Anyone with Internet access who desires to view this event can do so by navigating to http://www.ferc.gov's Calendar of Events and locating this event in the Calendar. The event will contain a link to its webcast. The Capitol Connection provides technical support for the webcasts; and offers access to the open meetings via television in the DC area and via phone bridge for a fee. If you have any questions, visit http://www.CapitolConnection.org or contact Danelle Perkowski or David Reininger at 703-993-3100.

Commission conferences are accessible under section 508 of the Rehabilitation Act of 1973. For accessibility accommodations please send an e-mail to accessibility@ferc.gov or call toll free 866-208-3372 (voice) or 202-208-1659 (TTY), or send a FAX to 202-208-2106 with the required accommodations.

For more information about the conference, please contact Sarah McKinley at (202) 502-8004 (sarah.mckinley@ferc.gov).

Magalie R. Salas,
Secretary.

[FR Doc. E6-8744 Filed 6-5-06; 8:45 am]

BILLING CODE 6717-01-P